DEPARTMENT OF THE INTERIOR

National Park Service

[NPS-WASO-NRNHL-17369; PPWOCRADI0, PCU00RP14.R50000]

National Register of Historic Places; Notification of Pending Nominations and Related Actions

Nominations for the following properties being considered for listing or related actions in the National Register were received by the National Park Service before December 13, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by February 5, 2015. Before including your address, phone number, email address, or other personal identifying information in your comment, you should be aware that your entire comment—including your personal identifying information—may be made publicly available at any time. While you can ask us in your comment to withhold your personal identifying information from public review, we cannot guarantee that we will be able to do so.

Dated: December 23, 2014.
J. Paul Loether,
Chief, National Register of Historic Places/National Historic Landmarks Program.

ALASKA

Kodiak Island Borough-Census Area

Woody Island Historic Archaeological District, Address Restricted, Kodiak, 14001196

ARKANSAS

Carroll County

Shady Grove Delmar Church and School, Cty. Rd. 933, 1.4 mi. w. of Delmar, Delmar, 14001197

Greene County

St. Mary's Catholic Church, 301 W. Highland, Paragould, 14001198

Hempstead County

Hope Girl Scout Little House, (New Deal Recovery Efforts in Arkansas MPS) NE. corner of Jones St. & Fair Park, Hope, 14001199

Johnson County

Ozone School, 14137 AR 21, Ozone, 14001200

Pulaski County

Elias, Barney L., House, 335 Goshen Ave., North Little Rock, 14001201

Sebastian County

Camp Chaffee Historic District (Boundary Increase), (World War II Home Front Efforts in Arkansas, MPS) Roughly bounded by Ward Ave., RR spur, Taylor Ave. & Terry St., Fort Smith, 14001202

Washington County

Skillern House, 3470 E. Skillern Rd., Fayetteville, 14001203

CALIFORNIA

San Diego County

San Diego Fire Department Shops at Station 6, 1572 Columbia St., San Diego, 14001204

San Mateo County

Vollers, Amelia, House, 353 N. Claremont St., San Mateo, 14001205

DISTRICT OF COLUMBIA

District of Columbia

First Church of Christ, Scientist, 1770 Euclid St. NW., Washington, 14001206

George Washington University—Old West End Historic District, Between F, I, 19th & 23rd Sts. NW. & Virginia Ave. NW., Washington, 14001207

GEORGIA

Fulton County

Alberta Drive—Mathieson Drive—West Shadowlawn Avenue Historic District, Roughly centered on W. Shadowlawn Ave., Alberta & Mathieson Drs., Atlanta, 14001208

ILLINOIS

Kane County

Ford, Sam and Ruth Van Sickle, House, 404 S. Edgelawn Dr., Aurora, 14001210

IOWA

Marion County

Tuttle, Thomas F. and Nancy, House, 608 Lincoln St., Pella, 14001209

KANSAS

Riley County

Young Buck Site, Address Restricted, Manhattan, 14001211

MINNESOTA

Ramsey County

3M Administration Building, 777 Forest St., St. Paul, 14001212

NEW YORK

Chemung County

Mount Saviour Monastery, 231, 121, 122 Monastery & 65, 212 Fisher Hill Rds., Pine City, 14001213

Nassau County

Cobble Villa, 657 Laurelton Blvd., Long Beach, 14001214

Niagara County

Pound—Hitchens House, 325 Summit St., Lockport, 14001215

Onondaga County

Hanover Square Historic District (Boundary Increase), E. Water, E. Genesee & E. Washington Sts., Syracuse, 14001217

Orleans County

Boxwood Cemetery, 3717 N. Gravel Rd., Medina, 14001216

Rockland County

House at 352 Piermont Avenue, 352 Piermont Ave., Piermont, 14001218

Suffolk County

Booth, Mary Louise, Girlhood House, E. Main St., Yaphank, 14001219

PENNSYLVANIA

Chester County

Mount Zion A.M.E. Church, 380 N. Fairfield Rd., Tredyffrin Township, 14001220

SOUTH CAROLINA

Sumter County

Lincoln High School, 20-26 Council St., Sumter, 14001221

TENNESSEE

Davidson County

Grand Ole Opry House, 2804 Opryland Dr., Nashville, 14001222

Haywood County

College Hill Historic District (Boundary Increase), (Brownsville, Tennessee MPS) Roughly Bounded by N. Wilson Ave., Haralson, Margin & Cherry Sts., Brownsville, 14001223

Dunbar—Carver Historic District, (Brownsville, Tennessee MPS) Along E. Jefferson St. & roughly bounded by Anderson Ave., E. Main St. & RR tracks, Brownsville, 14001224

Jefferson Street Historic District, (Brownsville, Tennessee MPS) Roughly bounded by Margin & E. Main Sts., S. Jackson & Washington Aves., Brownsville, 14001225

North Washington Historic District, (Brownsville, Tennessee MPS) Roughly bounded by N. Wilson & Park Aves., Thomas & E. Main Sts., Brownsville, 14001226

TEXAS

Dallas County

Mayflower Building, 411 N. Akard St., Dallas, 14001227

Midland County

Midland Tower, 223 W. Wall St., Midland, 14001228

WISCONSIN

Brown County

Gutknecht, Edwin and Jennie, House, 603 S. Michigan St., De Pere, 14001229

Heyrman, Henry and Mary, House, 403 S. Michigan St., De Pere, 14001230

A request for removal has been made for the following resource:

ARKANSAS

Washington County

Bariola Farm, 329 Ardemagni Rd., Tontitown, 92000096

[FR Doc. 2015-00833 Filed 1-20-15; 8:45 am]

BILLING CODE 4312-51-P